DEPARTMENT OF ENERGY

Federal Energy Regulatory Commission

[Docket No. RP01-60-000]

Natural Gas Pipeline Company of America; Notice of Proposed Changes in FERC Gas Tariff

October 25, 2000.

Take notice that on October 20, 2000, Natural Gas Pipeline Company of America (Natural) tendered for filing to be part of its FERC Gas Tariff, Sixth Revised Volume No. 1, the tariff sheets listed on Appendix A to the filing, to be effective November 20, 2000.

Natural states that these sheets were filed is to make several minor revisions to its Tariff, including changes to the General Terms and Conditions and to Natural's Rate Schedules IBS, FFTS, FRSS, NSS and DSS. These changes correct several provisions of Natural's Tariff and clarify others, conform various provisions of Natural's Tariff to each other or incorporate current Commission policy.

Natural requests waiver of the Commission's Regulations to the extent necessary to permit the tariff sheets submitted to become effective November 20, 2000.

Natural states that copies of the filing have been mailed to its customers and interested state regulatory agencies.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http;//www.ferc.fed.us/efi/doorbell.htm.

David P. Boergers,
Secretary.

[FR Doc. 00-27857 Filed 10-30-00; 8:45 am]

BILLING CODE 6717-01-M